DEPARTMENT OF TRANSPORTATION

Surface Transportation Board

49 CFR Parts 1011, 1034, 1102, 1104, and 1115

[Docket No. EP 697]

Amtrak Emergency Routing Orders

AGENCY: Surface Transportation Board.

ACTION: Proposed rule, withdrawn.

SUMMARY: The Board is withdrawing the proposed rules and discontinuing the EP 697 rulemaking proceeding which proposed a formal process for the National Railroad Passenger Corporation (Amtrak) to seek emergency routing orders. Based on comments received, the Board will continue the practice of appointing an individual who can act immediately on behalf of the Board.

DATES: The proposed rule is withdrawn and the rulemaking proceeding is discontinued on September 8, 2015.

FOR FURTHER INFORMATION CONTACT: Gabriel Meyer, (202) 245-0150. Assistance for the hearing impaired is available through the Federal Information Relay Service (FIRS) at (800) 877-8339.

SUPPLEMENTARY INFORMATION: On January 6, 2011, the Board issued a Notice of Proposed Rulemaking (NPRM) seeking public comment on regulations concerning Amtrak.¹ The proposed regulations would provide a more formal process for Amtrak to seek emergency routing orders over the lines of other railroads and for the Board to issue such orders. Pursuant to 49 U.S.C. 24308(b), the Board has statutory authority to require rail carriers to provide facilities immediately when necessary for the movement of Amtrak trains when Amtrak cannot operate its trains via normal routings due to rail line closures or other emergencies.

¹ The NPRM was published in the Federal Register on January 6, 2011 (76 FR 766).

The Board solicited comments and, on February 7, 2011, The Kansas City Southern Railway Company (KCSR), the Association of American Railroads (AAR), and Amtrak filed separate comments on the proposed rules. On February 22, 2011, KCSR and Amtrak filed separate replies to the comments. Amtrak expressed concern that, compared with the informal procedures that the Board has historically used, the proposed rules would make it more difficult for Amtrak to obtain emergency relief on an “immediate” basis. KCSR generally opposed the proposed rules, claiming that they allow unannounced access to a carrier's track without waiting for a reply from the affected carrier. AAR raised a similar point to KCSR, and suggested that, to provide greater participation by a host carrier, the Board issue a decision within two days following Amtrak's submission of an application.

Based on further consideration of these comments, we believe the proposed rules are not practical. Most importantly, the record reveals that the rules do not provide the prompt relief mandated by § 24308(b), which is necessary to handle emergencies that are happening in real-time. The comments thus indicate that the proposed rules, rather than serving the Board's goal of improving the process, would complicate and hinder it. We therefore will not adopt the formal process proposed in the NPRM and will continue the past practice of appointing a Board staff member who can order access immediately on behalf of the Board. Specifically, a staff member in the Office of Public Assistance, Governmental Affairs, and Compliance (OPAGAC) can respond to emergency rerouting requests via telephone in a timely manner and contact appropriate representatives of the involved carriers. We are simultaneously issuing a companion decision appointing the Director of OPAGAC, or in the Director's absence, a Deputy Director to act on behalf of the Board in such circumstances.²

² Appointment of Agent to Require Emergency Routing of Amtrak Passenger Trains, EP 697 (Sub-No. 1) (STB served Sept. 8, 2015).

These emergency routing orders allow for the continued operation of Amtrak and typically will not address compensation terms. If the parties cannot agree on such terms and conditions of access, they can subsequently petition the Board to set them. We expect parties to work together and with the Director or a Deputy Director of OPAGAC to reach a practical and efficient resolution of an access issue during an emergency situation.

This action will not significantly affect either the quality of the human environment or the conservation of energy resources.

Decided: August 31, 2015.
By the Board, Chairman Elliott, Vice Chairman Begeman, and Commissioner Miller.
Brendetta S. Jones,
Clearance Clerk.

[FR Doc. 2015-22543 Filed 9-4-15; 8:45 am]

BILLING CODE 4915-01-P